SURFACE TRANSPORTATION BOARD

[Docket No. FD 36499]

Northern Indiana Railroad Company, LLC—Acquisition Exemption—Town of North Judson, Ind.

Northern Indiana Railroad Company, LLC (NIRCo), a noncarrier, has filed a verified notice of exemption under 49 CFR 1150.31 to acquire from the Town of North Judson, Ind., approximately 32.97 miles of rail line extending between milepost CF 0.63, at LaCrosse, and milepost 15.23 at Wellsboro, and between milepost CI 212.55, at or near North Judson, and milepost 230.92, at Malden, in LaPorte, Porter, and Starke Counties, Ind. (collectively, the Line). The verified notice states that, following the sale, the Chesapeake and Indiana Railroad Company (CKIN), a Class III rail carrier, will continue its current operations over the Line.¹

¹ CKIN obtained authority to operate over the Line in Chesapeake & Indiana Railroad—Operation Exemption—Town of North Judson, Ind., FD 34529 (STB served Aug. 20, 2004). In 2017, CKIN obtained amended operating authority for a 27.92-mile segment of the Line, from milepost CF 0.23 to milepost CF 15.23, and from milepost CI 218 to milepost CI 230.92, see Chesapeake & Ind. R.R.—Amended Operation Exemption—Town of N. Judson, Ind., FD 36147 (STB served Oct. 20, 2017), and authority to discontinue service over an approximately 5.45-mile segment of the Line between milepost CI 212.55 and milepost CI 218.0, see Chesapeake & Ind. R.R.—Discontinuance of Serv. Exemption—in Starke Cnty., Ind., AB 1259X (STB served Nov. 28, 2017).

NIRCo certifies that its projected annual revenues as a result of this transaction will not exceed those that would qualify it as a Class III rail carrier and will not exceed $5 million. NIRCo further certifies that the acquisition does not involve a provision or agreement that would limit future interchange with a third-party connecting carrier.

The transaction may be consummated on or after April 18, 2021, the effective date of the exemption (30 days after the verified notice was filed).

If the verified notice contains false or misleading information, the exemption is void ab initio. Petitions to revoke the exemption under 49 U.S.C. 10502(d) may be filed at any time. The filing of a petition to revoke will not automatically stay the effectiveness of the exemption. Petitions to stay must be filed no later than April 9, 2021 (at least seven days before the exemption becomes effective).

All pleadings, referring to Docket No. FD 36499, should be filed with the Surface Transportation Board via e-filing on the Board's website. In addition, a copy of each pleading must be served on NIRCo's representative: Charles H. Montange, Law Offices of Charles H. Montange, 426 NW 162nd St, Seattle, WA 98177.

Board decisions and notices are available at www.stb.gov.
Decided: March 30, 2021.
By the Board, Allison C. Davis, Director, Office of Proceedings.
Brendetta Jones,
Clearance Clerk.

[FR Doc. 2021-06842 Filed 4-1-21; 8:45 am]

BILLING CODE 4915-01-P